DEPARTMENT OF ENERGY

Federal Energy Regulatory Commission

[Project Nos. 11834-000 and 4026-033—Maine]

FPL Energy Maine Hydro, LLC and Androscoggin Reservoir Company; Notice of Availability of Final Environmental Assessment

October 4, 2002.

In accordance with the National Environmental Policy Act of 1969 and the Federal Energy Regulatory Commission's (Commission's) regulations, 18 CFR part 380 (Order No. 486, 52 FR 47897), the Office of Energy Projects has reviewed the application for an original license for the Upper and Middle Dam Storage Project located on the Rapid River, in Oxford and Franklin Counties, Maine, and has prepared an Final Environmental Assessment (FEA) for the project. In addition, the FEA analyzes the proposed permanent flow pursuant to Article 32 of the existing license for the Aziscohos Project, located on the Magalloway River, in Oxford County, Maine. In the FEA, the Commission's staff has analyzed the potential environmental effects of the project, and permanent minimum flow and has concluded that approval of the project, with appropriate environmental measures, would not constitute a major federal action significantly affecting the quality of the human environment.

On May 21, 2002, the Commission staff issued a draft Environmental Assessment (EA) for the Upper and Middle Dam Storage Project and the proposed permanent minimum flow from the Aziscohos Project and requested that any comments be filed within 30 days. Comments were filed by four entities and are addressed in the FEA.

The FEA contains the staff's analysis of the potential environmental effects of the project and concludes that licensing the project, with appropriate environmental protective measures, would not constitute a major federal action that would significantly affect the quality of the human environment.

A copy of the FEA is available for review at the Commission in the Public Reference Room or may be viewed on the Commission's Web site at http://www.ferc.gov using the “FERRIS” link. Enter the docket number excluding the last three digits in the docket number field to access the document. For assistance, call 1-866-208-3676 or for TTY (202) 502-8659, or e-mail FERCONLINESUPPORT@FERC.GOV.

For further information, contact Mark Pawlowski at (202) 502-6052.

Linwood A. Watson, Jr.,
Deputy Secretary.

[FR Doc. 02-25818 Filed 10-10-02; 8:45 am]

BILLING CODE 6717-01-P